DEPARTMENT OF THE INTERIOR

Bureau of Land Management

[UTU 42838]

Public Land Order No. 7657; Partial Revocation of Secretarial Order Dated December 15, 1906, and Revocation of Secretarial Order Dated July 27, 1907; Utah

AGENCY: Bureau of Land Management, Interior.

ACTION: Public land order.

SUMMARY: This order revokes two Secretarial Orders insofar as they affect approximately 560 acres of National Forest System lands withdrawn for the protection of two Forest Service ranger stations.

DATES: Effective Date: March 13, 2006.

FOR FURTHER INFORMATION CONTACT: Marsha Fryer, Forest Service, Intermountain Region, 324-25th Street, Ogden, Utah 84401-2310, 801-625-5802.

SUPPLEMENTARY INFORMATION: The Forest Service has determined that these lands no longer need to be withdrawn and has requested the revocation. The lands will not be opened to surface entry or mining until completion of an analysis to determine if any of the lands need special designation or protection.

Order

By virtue of the authority vested in the Secretary of the Interior by Section 204 of the Federal Land Policy and Management Act of 1976, 43 U.S.C. 1714 (2000), it is ordered as follows:

1. The Secretarial Order dated December 15, 1906, which withdrew National Forest System lands for protection of Ranger Station Nos. 4 and 6, is hereby revoked insofar as it affects the following described lands:

Dixie National Forest (Formally Sevier National Forest)

Ranger Station No. 4 (Blue Spring Administrative Site)

Salt Lake Meridian

T. 36 S., R. 7 W.,

sec. 7, NE¼SE¼ and NE¼SE¼SE¼.

Ranger Station No. 6 (Duck Creek Administrative Site)

T. 38 S., R. 8 W.,

sec. 12, lots 3 and 4 and W½SE¼.

The areas described aggregate approximately 200 acres in Garfield and Kane Counties.

2. The Secretarial Order dated July 27, 1907, which withdrew the following described National Forest System lands for the protection of Ranger Station No. 4, is hereby revoked in its entirety:

Dixie National Forest (Formally Sevier National Forest)

Ranger Station No. 4 (Blue Spring Administrative Site)

Salt Lake Meridian

T. 36 S., R. 7 W.,

sec. 8, SW¼NW¼ and SW¼;

sec. 17, NW1/4.

The area described contains 360 acres in Garfield County.

Dated: February 27, 2006.
Mark Limbaugh,
Assistant Secretary of the Interior.

[FR Doc. E6-3526 Filed 3-10-06; 8:45 am]

BILLING CODE 3410-11-P